ENVIRONMENTAL PROTECTION AGENCY

[FRL-7776-8]

Proposed Administrative Settlement; Denova Environmental Site

AGENCY: Environmental Protection Agency (EPA).

ACTION: Notice; request for public comment.

SUMMARY: In accordance with the Comprehensive Environmental Response, Compensation, and Liability Act of 1980, as amended by the Superfund Amendments and Reauthorization Act of 1986 (CERCLA), 42 U.S.C. 9600 et seq., notice is hereby given that a proposed Agreement and Covenant Not to Sue (Prospective Purchaser Agreement) associated with the Denova Environmental Superfund Site was executed by the United States on May 12, 2004. The proposed Prospective Purchaser Agreement would resolve certain potential claims of the United States under sections 106, 107(a) and 107(r) of CERCLA, 42 U.S.C. 9606, 9607(a), and 9607(r) against Target Corporation (the Purchaser). The Purchaser plans to acquire the 20-acre parcel constituting the Superfund Site, located at 2610 North Alder Avenue, Rialto, California, and use the property as part of a distribution center.

In exchange for the settlement, Target has agreed to pay the United States Environmental Protection Agency $100,000 in cash.

For thirty (30) calendar days following the date of publication of this notice, EPA will receive written comments relating to the proposed settlement. EPA's response to any comments received will be available for public inspection at 75 Hawthorne Street, San Francisco, CA 94105.

DATES: Comments must be submitted on or before July 22, 2004.

ADDRESSES: The proposed Prospective Purchaser Agreement is available for public inspection at EPA Region IX, 75 Hawthorne Street, San Francisco, California. A copy of the proposed settlement may be obtained from Thanne Cox, EPA Region IX, 75 Hawthorne Street, ORC-3, San Francisco, CA 94105, telephone number 415-972-3908. Comments should reference the Denova Environmental Superfund Site, Rialto, California and EPA Docket No. 2004-10 and should be addressed to Thanne Cox at the above address.

FOR FURTHER INFORMATION CONTACT: Thanne Cox, Assistant Regional Counsel (ORC-3), Office of Regional Counsel, U.S. EPA Region IX, 75 Hawthorne Street, San Francisco, CA 94105; phone: (415) 972-3908; fax: (415) 947-3570; e-mail: cox.elizabeth@epa.gov.

Dated: June 10, 2004.
Keith Takata,
Director, Superfund Division, Region IX.

[FR Doc. 04-14090 Filed 6-21-04; 8:45 am]

BILLING CODE 6560-50-P